DEPARTMENT OF THE TREASURY

Alcohol and Tobacco Tax and Trade Bureau

27 CFR Parts 7 and 25

[Notice No. 23; Re: Notice Nos. 4 and 10]

RIN 1513-AA11

Flavored Malt Beverages and Related Proposals; Posting of Comments Received on the TTB Internet Web Site

AGENCY: Alcohol and Tobacco Tax and Trade Bureau (TTB), Treasury.

ACTION: Notice of proposed rulemaking; modification to conditions for posting of comments on the TTB Internet Web site.

SUMMARY: The Alcohol and Tobacco Tax and Trade Bureau announces that all comments submitted in response to Notice No. 4, Flavored Malt Beverages and Related Proposals, published in the Federal Register on March 24, 2003, will be posted on our Internet Web site with the commenter's street address, telephone number, and e-mail address included, unless the commenter requests within the next 3 weeks that such information be removed from the posted comment.

DATES: If you commented on Notice No. 4 published in the Federal Register on March 24, 2003 (68 FR 14292), you have until December 23, 2003 to request removal of any street address, telephone number, or e-mail address from the posted comment.

ADDRESSES: You may contact us at the following addresses to request the removal of any street address, telephone number, or e-mail address from your comment on Notice No. 4. Please include information to identify your original comment and reference “Notice No. 4—I.D. Removal” in the subject line of your request.

• Chief, Regulations and Procedures Division, Alcohol and Tobacco Tax and Trade Bureau, P.O. Box 50221, Washington, DC 20091-0221;

• 202-927-8525 (facsimile); or

• nprm@ttb.gov (e-mail).

You may view copies of this notice, Notices No. 4 and 10, and any comments received concerning Notice No. 4 by appointment at our Reference Library, 1350 G Street NW., Washington, DC 20005; phone 202-927-8210. Copies of this notice and Notices No. 4 and 10 are currently posted on our Internet Web site at http://www.ttb.gov. We will post copies of the comments received in response to Notice No. 4 on our Web site as soon as practicable.

See the “Submitting Requests for Removal of Address Information” section of this notice for specific instructions and requirements for submitting your request to remove identifying addresses, telephone numbers, and e-mail addresses from the posted version of your comment.

FOR FURTHER INFORMATION CONTACT: Charles N. Bacon, Alcohol and Tobacco Tax and Trade Bureau, Regulations and Procedures Division, P.O. Box 5056, Beverly Farms, MA 01915; telephone 978-921-1840.

SUPPLEMENTARY INFORMATION:

Notice No. 4 and Internet Posting of Comments Received

On March 24, 2003, the Alcohol and Tobacco Tax and Trade Bureau published Notice No. 4, a notice of proposed rulemaking entitled “Flavored Malt Beverages and Related Proposals” (see 68 FR 14292). We later extended the comment period for Notice No. 4 until October 21, 2003 (see Notice No. 10, 68 FR 32698, June 2, 2003).

In Notice No. 4 we advised the public that comments made in response to the notice and the names of commenters were not confidential, and were subject to public disclosure in our reference library and in the preamble of any final rulemaking on flavored malt beverages. Notice No. 4 added that we would post copies of the comments received on the TTB Internet Web site at http://www.ttb.gov. Notice No. 4 also included the following statement:

All comments posted on our Web site will show the name of the commenter but will not show street addresses, telephone numbers, or e-mail addresses.

Notice No. 4 noted that “in all cases” the full comments would be available in our reference library. We used similar language in all of our notices of proposed rulemaking published before October 1, 2003.

In response to Notice No. 4, we have received approximately 14,700 comments. Of that total, we received about 9,900 e-mail comments and about 4,800 comment letters by mail or facsimile transmission. In contrast, other TTB notices of proposed rulemaking issued during 2003 generated an average of less than 20 comments each. The unusually large number of comments received on Notice No. 4 has made it difficult to remove all street addresses, telephone numbers, and e-mail addresses from the comments for posting on our Internet Web site in a timely manner.

Therefore, to ensure that the public has Internet access to the thousands of comments received on Notice No. 4 at the earliest practicable time, we will post comments received on that notice on our Web site in full, including any street addresses, telephone numbers, or e-mail addresses contained in the comments.

However, since commenters may have responded to Notice No. 4 with the understanding that their street addresses, telephone numbers, and e-mail addresses would not be posted on the TTB Web site, we will remove any such information from a posted comment if the original, individual commenter contacts us on or before December 23, 2003. As noted earlier, the full comment, including any street addresses, telephone numbers, or e-mail addresses within the comment is subject to public disclosure and will remain available for public viewing in our reference library.

Submitting Requests for Removal of Address Information

We will only accept requests to remove street addresses, telephone numbers, and e-mail addresses from the posted version of a comment on Notice No. 4 from the original, individual commenter. We will not accept such requests from an organization or company on behalf of a group of individual commenters.

In your request to remove such information from the posted version of your comment on Notice No. 4, please include information that will allow us to identify your original comment. For example, your request should include your name, address, date of your original comment, and the name of any letterhead your original comment was written on. In all cases, please reference “Notice No. 4—I.D. Removal” in the subject line of your request.

You may submit your request to remove any street address, telephone number, and e-mail address from your original comment on Notice No. 4 by one of these methods:

• By mail: You may send your written request to TTB at the address listed in the ADDRESSES section above.

• By facsimile: You may submit your request by facsimile transmission to 202-927-8525. Your faxed request must—

(1) Be on 8½ by 11-inch paper;

(2) Contain a legible, written signature; and

(3) Be five or less pages long in order to ensure access to our fax equipment. We will not accept faxes that exceed five pages.

• By e-mail: You may e-mail your request to nprm@ttb.gov. Comments transmitted by electronic-mail must—

(1) Contain your e-mail address;

(2) Be legible when printed on 8½ x 11-inch size paper.

Please note: Do not submit additional comments on Notice No. 4. The comment period for Notice No. 4 closed on October 21, 2003.

Drafting Information

Michael D. Hoover of the Regulations and Procedures Division, Alcohol and Tobacco Tax and Trade Bureau, drafted this notice.

List of Subjects

27 CFR Part 7

Advertising, Beer, Customs duties and inspection, Imports, Labeling, Reporting and recordkeeping requirements, Trade practices.

27 CFR Part 25

Beer, Claims, Electronic fund transfers, Excise taxes, Exports, Labeling, Liquors, Packaging and containers, Reporting and recordkeeping requirements, Research, Surety bonds.

Authority and Issuance

This notice is issued under the authority in 27 U.S.C. 205.

Approved: November 21, 2003.
Arthur J. Libertucci,
Administrator.

[FR Doc. 03-29905 Filed 12-1-03; 8:45 am]

BILLING CODE 4810-31-P